NATIONAL SCIENCE FOUNDATION

Agency Information Collection Activities: Proposed Collection; Comment Request

AGENCY: National Science Foundation.

ACTION: Notice.

SUMMARY: The National Science Foundation (NSF) is announcing plans to request clearance of this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by June 4, 2002 to be assured of consideration. Comments received after that date would be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR FURTHER INFORMATION CONTACT: Suzanne Plimpton on (703) 292-7556 or send email to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Quantitative Evaluation for the National Science Foundation's Centers for Learning and Teaching.

OMB Control No.: 3145-(new).

Expiration Date of Approval: Not applicable.

1. Abstract

This document has been prepared to support the clearance of data collection instruments to be used in the evaluation of the National Science Foundation's (NSF) Centers for Learning and Teaching (CLT). The CLT program calls for a systematic approach to the development and enhancement of the instructional workforce (kindergarten through graduate school) where professionals are educated in an environment of research and practice. For science, technology, engineering and mathematics (STEM) educators, a Center will provide opportunities to enhance content knowledge, develop teaching strategies that lead to improved student learning, facilitate the implementation of high quality instructional materials and information technology, and develop skills in using various strategies for assessing student learning. For graduate students, post-doctoral students, and interns, a Center will provide study and research opportunities with the goal of improving learning, teaching, and assessment across the educational continuum.

CLT centers are funded as Elementary, Secondary, and Informal Education (ESIE) Centers, or Higher Education Centers. The goals of the ESIE Centers include (1) Increasing the numbers of K-12 STEM educators in both formal and informal settings who have current content knowledge, implement standards-based instruction, and use information technology as an aid to learning; (2) rebuilding and diversifying the human resource base that forms the national infrastructure for STEM, including basic and advanced education for graduate and post-doctoral students who will specialize in STEM education; and (3) providing substantive opportunities for research into the nature of learning, teaching, and educational reform. The goals of the Higher Education Centers address (1) increasing the numbers of STEM faculty who implement effective teaching practice and assessment; (2) providing professional development for graduate and post-doctoral student in STEM disciplines to develop their skills as educators and to develop graduate programs in STEM education in disciplinary departments; and (3) providing substantive opportunities for research into the nature of learning, teaching, and educational reform in higher education.

This study addresses the following research questions: In what ways and to what extent are CLTs reflecting the models proposed? To what extent are the CLT centers meeting the goals of the CLT program? What is the value-added of creating CLTs for the achievement of the desired educational outcomes? To what extent does the portfolio of CLT activities appropriately meet national STEM education needs?

The data to address these questions will be gathered via surveys of the following groups: CLT faculty; CLT graduate students; CLT postdoctoral participants: CLT project directors; representatives of IHE partners; and participating K-12 teachers. All the surveys will be sample surveys with the exception of the project director survey, which will be the population. The evaluation surveys will build on the annual data collected from projects for the purpose of GPRA.

In addition to the surveys, a number of small site-specific studies will be conducted to examine the outcomes of various Center activities (e.g., new teacher preparation programs, new courses and curricula, professional development for faculty and K-12 teachers). Meta analysis techniques will be employed to calculate effect sizes across similar studies.

2. Expected Respondents

The expected respondents are: CLT faculty; CLT graduate students; CLT postdoctoral participants; CLT project directors; representatives of IHE partners; and participating K-12 teachers.

3. Burden on the Public

The total estimate for this collection is 500 burden hours for a maximum of 1200 participants assuming an 80-100% response rate. The average annual reporting burden is 30 minutes per respondent. The burden on the public is negligible; the study is limited to project participants that have received funding from the NSF CLT program.

Dated: April 1, 2002.
Suzanne H. Plimpton,
Reports Clearance Officer, National Science Foundation.

[FR Doc. 02-8248 Filed 4-4-02; 8:45 am]

BILLING CODE 7555-01-M